DEPARTMENT OF DEFENSE

Office of the Secretary

Membership of the Performance Review Board

AGENCY: Defense Information Systems Agency, Department of Defense.

ACTION: Notice.

SUMMARY: This notice announces the appointment of the members of the Performance Review Board (PRB) of the Defense Information Systems Agency (DISA). The publication of PRB membership is required by 5 U.S.C. 4314(c)(4).

The Performance Review Board (PRB) provides fair and impartial review of Senior Executive Service performance appraisals and makes recommendations regarding performance ratings and performance scores to the Director, DISA.

DATES: Effective Date: October 15, 2011.

FOR FURTHER INFORMATION CONTACT: Rebecca Polansky, DISA SES Program Manager, Defense Information Systems Agency, Fort Meade, Maryland, (301) 225-1261.

SUPPLEMENTARY INFORMATION: In accordance with 5 U.S.C. 4314(c)(4), the following executives are appointed to the Defense Information Systems Agency PRB:

Rear Admiral David G. Simpson, USN;

John J. Penkoske;

Larry K. Huffman;

Rebecca S. Harris.

Executives listed will serve a one-year renewable term, effective October 15, 2011.

Dated: October 14, 2011.
Aaron Siegel,
Alternate OSD Federal Register Liaison Officer, Department of Defense.

[FR Doc. 2011-26998 Filed 10-18-11; 8:45 am]

BILLING CODE 5001-06-P